DEPARTMENT OF ENERGY

Federal Energy Regulatory Commission

[Project No. 2984-042]

S.D. Warren Company; Notice Extending Time To File Comments on Environmental Assessment

August 25, 2005.

On July 11, 2005, Commission staff issued a draft environmental assessment (EA) for the Eel Weir Project. On August 18, 2005, Commission staff held a public meeting on the draft EA in Portland, Maine. During that meeting, a number of participants indicated that they had not previously received their service copy of the draft EA and requested additional time to file comments. Additionally, on August 24, 2005, S.D. Warren filed a request to extend the deadline for filing comments on the draft EA by 30 days from the date of the public meeting.

In order to ensure that the record in the relicensing proceeding is complete and that all participants have an adequate opportunity to comment on the draft EA, an extension of time to file comments on the draft EA is hereby granted until September 9, 2005.

Magalie R. Salas,
Secretary.

[FR Doc. E5-4757 Filed 8-30-05; 8:45 am]

BILLING CODE 6717-01-P